DEPARTMENT OF DEFENSE

Office of the Secretary

Defense Science Board

AGENCY: Office of the Secretary, Department of Defense.

ACTION: Notice of advisory committee meeting.

SUMMARY: The Defense Science Board (DSB) Task Force on the Role and Status of DoD Red Teaming Activities will meet in closed session on September 24, 2002; November 14, 2002; and December 17, 2002, at Strategic Analysis Inc., 3601 Wilson Boulevard, Arlington, VA. This Task Force will review the role and status of Red Teaming in the Department of Defense (DoD) and recommend ways to make it a more effective tool.

The mission of the Defense Science Board is to advise the Secretary of Defense and the Under Secretary of Defense for Acquisition, Technology & Logistics on scientific and technical matters as they affect the perceived needs of the Department of Defense. At this meeting, the Defense Science Board Task Force will review and evaluate current and past Red Team activities within the Department of Defense and its agencies, as well as other government and non-government organizations (including those initiated since September 11). The Task Force will prepare recommendations that are relevant to red teaming that portrays both state and non-state adversaries. It will also look at how the Department should work with other government departments and agencies to foster effective red teaming. The Task Force will address issues of red team products, processes and organization.

In accordance with section 10(d) of the Federal Advisory Committee Act, Pub. L. 92-463, as amended (5 U.S.C. App. II), it has been determined that this Defense Science Board Task Force meeting concerns matters listed in 5 U.S.C. 552b(c)(1) and that, accordingly, this meeting will be closed to the public.

Dated: September 6, 2002.
Patricia L. Toppings,
Alternate OSD Federal Register Liaison Officer, Department of Defense.

[FR Doc. 02-23413 Filed 9-13-02; 8:45 am]

BILLING CODE 5001-08-M